DEPARTMENT OF THE TREASURY

Internal Revenue Service

Open Meeting of the Taxpayer Advocacy Panel Taxpayer Communications Project Committee

AGENCY: Internal Revenue Service (IRS), Treasury.

ACTION: Notice of meeting.

SUMMARY: An open meeting of the Taxpayer Advocacy Panel Taxpayer Communications Project Committee will be conducted. The Taxpayer Advocacy Panel is soliciting public comments, ideas, and suggestions on improving customer service at the Internal Revenue Service.

DATES: The meeting will be held Thursday, January 15, 2015, through Friday, January 16, 2015.

FOR FURTHER INFORMATION CONTACT: Lisa Billups at 1-888-912-1227 or (214) 413-6523.

SUPPLEMENTARY INFORMATION: Notice is hereby given pursuant to Section 10(a)(2) of the Federal Advisory Committee Act, 5 U.S.C. App. (1988) that an open meeting of the Taxpayer Advocacy Panel Taxpayer Communications Project Committee will be held Thursday, January 15, 2015, from 8:00 a.m. to 4:30 p.m., and Friday, January 16, 2015, from 8:00 a.m. to 12:00 p.m. Mountain Time. The public is invited to make oral comments or submit written statements for consideration. Notification of intent to participate must be made with Ms. Lisa Billups. For more information please contact Ms. Billups at 1-888-912-1227 or 214-413-6523, or write TAP Office 1114 Commerce Street, Dallas, TX 75242-1021, or post comments to the Web site: http://www.improveirs.org.

The committee will be discussing various issues related to Taxpayer Communications and public input is welcome.

Dated: December 3, 2014.
Otis Simpson,
Acting Director, Taxpayer Advocacy Panel.

[FR Doc. 2014-28850 Filed 12-9-14; 8:45 am]

BILLING CODE 4830-01-P